ENVIRONMENTAL PROTECTION AGENCY

[OPP-2005-0223; FRL-7730-2]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1, 2005 to June 30, 2005 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2005-0223. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 South Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

U.S. States and Territories

Alabama

Department of Agriculture and Industries

Specific: EPA authorized the use of diuron on catfish ponds to control blue green algae; April 25, 2005 to November 30, 2005. Contact: (Carmen Rodia)

Arizona

Department of Agriculture

Crisis: On May 04, 2005, for the use of quinoxyfen on watermelons to control powdery mildew. This program is expected to end on September 30, 2005. Contact: (Stacey Groce)

Arkansas

State Plant Board

Specific: EPA authorized the use of fomesafen on snap beans to control various weed pests; April 15, 2005 to September 15, 2005. Contact: (Andrea Conrath)

EPA authorized the use of spinosad on pasture grass to control armyworms; May 27, 2005 to December 31, 2005. Contact: (Andrew Ertman)

EPA authorized the use of diuron on catfish ponds to control blue green algae; May 27, 2005 to November 30, 2005. Contact: (Carmen Rodia)

California

Environmental Protection Agency, Department of Pesticide Regulation

Specific: EPA authorized the use of imidacloprid on pomegranates to control whiteflies; June 10, 2005 to August 15, 2005. Contact: (Andrew Ertman)

Colorado

Department of Agriculture

Crisis: On May 16, 2005, for the use of fluroxypyr on onions to control volunteer potatoes. This program ended on July 15, 2005. Contact: (Stacey Groce)

Quarantine: EPA authorized the use of myclobutanil on soybeans to control soybean rust; April 7, 2005 to November 10, 2007. Contact: (Andrew Ertman)

EPA authorized the use of propiconazole on soybeans to control soybean rust; April 7, 2005 to November 10, 2007. Contact: (Andrew Ertman)

EPA authorized the use of trifloxystrobin on soybeans to control soybean rust; April 8, 2005 to November 10, 2007. Contact: (Andrew Ertman)

Specific: EPA authorized the use of acibenzolar on onion to control iris yellow spot virus; April 8, 2005 to September 1, 2005. Contact: (Libby Pemberton)

EPA authorized the use of fomesafen on dry beans to control various weed pests; April 15, 2005 to July 15, 2005. Contact: (Andrea Conrath)

Delaware

Department of Agriculture

Specific: EPA authorized the use of fomesafen on snap beans] to control various weed pests; April 15, 2005 to October 1, 2005. Contact: (Andrea Conrath)

Florida

Department of Agriculture and Consumer Services

Specific: EPA authorized the use of fenbuconazole on grapefruit to control greasy spot disease; April 1, 2005 to October 1, 2005. Contact: (Andrea Conrath)

EPA authorized the use of thiophanate methyl in fruiting vegetables to control white mold; April 8, 2005 to April 7, 2006. Contact: (Andrea Conrath)

Georgia

Department of Agriculture

Quarantine: EPA authorized the use of trifloxystrobin on soybeans to control soybean rust; April 8, 2005 to November 10, 2007. Contact: (Andrew Ertman)

EPA authorized the use of myclobutanil on soybeans to control soybean rust; April 7, 2005 to November 10, 2007. Contact: (Andrew Ertman)

EPA authorized the use of propiconazole on soybeans to control soybean rust; April 7, 2005 to November 10, 2007. Contact: (Andrew Ertman)

Hawaii

Department of Agriculture

Quarantine: EPA authorized the use of calcium hydroxide in outdoor nurseries, commercial plant nurseries, residential areas, resorts and hotels, parks, forest habitats, and natural areas to control coqui and greenhouse frogs; April 26, 2005 to April 26, 2008. Contact: (Stacey Groce)

Idaho

Department of Agriculture

Specific: EPA authorized the use of fenpyroximate on hops to control spider mites; May 26, 2005 to September 15, 2005. Contact: (Andrea Conrath)

EPA authorized the use of spinosad on bulb onions to control thrips; June 8, 2005 to August 31, 2005. Contact: (Andrew Ertman)

Illinois

Department of Agriculture

Specific: EPA authorized the use of fomesafen on snap beans to control various weed pests; April 15, 2005 to August 31, 2005. Contact: (Andrea Conrath)

EPA authorized the use of tebuconazole on wheat to controlFusarium head blight; April 29, 2005 to June 20, 2005. Contact: (Libby Pemberton)

Indiana

Office of Indiana State Chemist

Specific: EPA authorized the use of fomesafen on snap beans to control various weed pests; April 15, 2005 to September 15, 2005. Contact: (Andrea Conrath)

EPA authorized the use of thiophanate methyl in blueberry to control various fungal pathogens; April 29, 2005 to September 30, 2005. Contact: (Andrea Conrath)

EPA authorized the use of tebuconazole on wheat to controlFusarium head blight; May 27, 2005 to June 30, 2005. Contact: (Libby Pemberton)

Iowa

Department of Agriculture and Land Stewardship

Specific: EPA authorized the use of fomesafen on dry beans to control various weed pests; May 13, 2005 to August 31, 2005. Contact: (Andrea Conrath)

EPA authorized the use of fomesafen on snap beans to control various weed pests; May 13, 2005 to August 31, 2005. Contact: (Andrea Conrath)

Kansas

Department of Agriculture

Specific: EPA authorized the use of tebuconazole on sunflower to control rust; April 7, 2005 to September 15, 2005. Contact: (Libby Pemberton)

EPA authorized the use of propiconazole on sorghum to control sorghum ergot; June 29, 2005 to December 31, 2005. Contact: (Libby Pemberton)

Kentucky

Department of Agriculture

Crisis: On April 22, 2005, for the use of tebuconazole on wheat to control Fusarium head blight. This program ended on May 6, 2005. Contact: (Libby Pemberton)

Specific: EPA authorized the use of tebuconazole on wheat to control Fusarium head blight; April 29, 2005 to May 30, 2005. Contact: (Libby Pemberton)

EPA authorized the use of azoxystrobin on tobacco to control Frogeye (Cercospora nicotianae) and Target spot (Thanatephorus cucumeris/Rhizoctonia solani); June 24, 2005 to October 15, 2005. Contact: (Libby Pemberton)

Louisiana

Department of Agriculture and Forestry

Specific: EPA authorized the use of bifenthrin on sweet potato to control soil beetle complex; April 29, 2005 to November 30, 2005. Contact: (Andrea Conrath)

EPA authorized the use of halosulfuron-methyl on sweet potatoes to control sedges; June 10, 2005 to August 1, 2005. Contact: (Andrew Ertman)

EPA authorized the use of methoxyfenozide on soybeans to control soybean loopers; June 30, 2005 to September 30, 2005. Contact: (Stacey Groce)

Maine

Department of Agriculture, Food, and Rural Resources

Specific: EPA authorized the use of propiconazole on blueberry to control mummyberry disease; April 6, 2005 to June 30, 2005. Contact: (Andrea Conrath)

EPA authorized the use of fomesafen on dry beans to control various weed pests; April 15, 2005 to July 15, 2005. Contact: (Andrea Conrath)

Maryland

Department of Agriculture

Specific: EPA authorized the use of fomesafen on snap beans to control various weed pests; May 13, 2005 to September 15, 2005. Contact: (Andrea Conrath)

EPA authorized the use of terbacil] on [watermelon] to control annual broadleaf weeds; June 06, 2005 to July 15, 2005. Contact: (Stacey Groce)

Massachusetts

Massachusetts Department of Food and Agriculture

Specific: EPA authorized the use of pronamide on cranberries to control dodder; April 1, 2005 to June 15, 2005. Contact: (Andrew Ertman)

EPA authorized the use of fenbuconazole on blueberry to control mummyberry disease; April 11, 2005 to June 30, 2005. Contact: (Andrea Conrath)

EPA authorized the use of indoxacarb on cranberry to control cranberry weevil; May 12, 2005 to June 30, 2005. Contact: (Stacey Groce)

Michigan

Michigan Department of Agriculture

Specific: EPA authorized the use of fomesafen on snap beans to control various weed pests; April 15, 2005 to August 30, 2005. Contact: (Andrea Conrath)

EPA authorized the use of fomesafen on dry beans to control various weed pests; April 15, 2005 to August 15, 2005. Contact: (Andrea Conrath)

EPA authorized the use of thiophanate methyl in blueberry to control various fungal pathogens; April 29, 2005 to September 30, 2005. Contact: (Andrea Conrath)

EPA authorized the use of zoxamide on ginseng to control phytophthora blight; May 6, 2005 to October 31, 2005. Contact: (Stacey Groce)

EPA authorized the use of mancozeb on ginseng to control alternaria blight; May 10, 2005 to October 31, 2005. Contact: (Stacey Groce)

EPA authorized the use of chlorothalonil on ginseng to control alternaria blight; May 10, 2005 to October 31, 2005. Contact: (Stacey Groce)

EPA authorized the use of tebuconazole on wheat to control Fusarium head blight; May 27, 2005 to June 25, 2005. Contact: (Libby Pemberton)

EPA authorized the use of sulfentrazone on strawberries to control broadleaf weeds; June 25, 2005 to December 15, 2005. Contact: (Andrew Ertman)

Minnesota

Department of Agriculture

Specific: EPA authorized the use of fomesafen on dry beans to control various weed pests; April 15, 2005 to August 15, 2005. Contact: (Andrea Conrath)

EPA authorized the use of tebuconazole on barley and wheat to control Fusarium head blight; May 27, 2005 to September 1, 2005. Contact: (Libby Pemberton)

EPA authorized the use of lambda-cyhalothrin on wild rice to control rice worms; June 30, 2005 to September 10, 2005. Contact: (Andrew Ertman)

Mississippi

Department of Agriculture and Commerce

Specific: EPA authorized the use of fenbuconazole on blueberry to control mummyberry disease; April 11, 2005 to August 31, 2005. Contact: (Andrea Conrath)

EPA authorized the use of diuron on catfish ponds to control blue green algae; April 25, 2005 to November 1, 2005. Contact: (Carmen Rodia)

EPA authorized the use of bifenthrin on sweet potato to control soil beetle complex; April 29, 2005 to September 30, 2005. Contact: (Andrea Conrath)

EPA authorized the use of methoxyfenozide on soybeans) to control saltmarsh catepillar and armyworms; June 30, 2005 to September 30, 2005. Contact: (Stacey Groce)

Missouri

Department of Agriculture

Specific: EPA authorized the use of fomesafen on snap beans to control various weed pests; April 15, 2005 to September 10, 2005. Contact: (Andrea Conrath)

Montana

Department of Agriculture

Specific: EPA authorized the use of tebuconazole on barley and wheat to control Fusarium head blight; April 29, 2005 to July 20, 2005. Contact: (Libby Pemberton)

EPA authorized the use of diflubenzuron on barley and wheat to control grasshoppers; June 22, 2005 to July 15, 2005. Contact: (Libby Pemberton)

Nebraska

Department of Agriculture

Specific: EPA authorized the use of fomesafen on dry beans to control various weed pests; May 13, 2005 to July 15, 2005. Contact: (Andrea Conrath)

Nevada

Department of Agriculture

Specific: EPA authorized the use of bifenazate on timothy grass to control Banks grass mite; May 1, 2005 to September 1, 2005. Contact: (Andrea Conrath)

EPA authorized the use of diflubenzuron on alfalfa to control Mormon cricket and grasshopper; June 3, 2005 to October 31, 2005. Contact: (Libby Pemberton)

New Jersey

Department of Environmental Protection

Quarantine: EPA authorized the use of trifloxystrobin on soybeans to control soybean rust; April 8, 2005 to November 10, 2007. Contact: (Andrew Ertman)

EPA authorized the use of propiconazole on soybeans to control soybean rust; April 7, 2005 to November 10, 2007. Contact: (Andrew Ertman)

EPA authorized the use of myclobutanil on soybeans to control soybean rust; April 7, 2005 to November 10, 2007. Contact: (Andrew Ertman)

EPA authorized the use of tetraconazole on soybeans to control soybean rust; April 25, 2005 to November 10, 2007. Contact: (Andrew Ertman)

Specific: EPA authorized the use of pronamide on cranberry to control dodder; April 30, 2005 to December 15, 2005. Contact: (Stacey Groce)

New Mexico

Department of Agriculture

Specific: EPA authorized the use of spinosad on onions to control thrips; May 6, 2005 to November 1, 2005. Contact: (Andrew Ertman)

EPA authorized the use of myclobutanil on chile peppers and bell peppers to control powdery mildew; July 01, 2005 to October 15, 2005. Contact: (Stacey Groce)

New York

Department of Environmental Conservation

Specific: EPA authorized the use of fomesafen on snap beans to control various weed pests; April 15, 2005 to August 30, 2005. Contact: (Andrea Conrath)

EPA authorized the use of fomesafen on dry beans to control various weed pests; April 15, 2005 to August 30, 2005. Contact: (Andrea Conrath)

EPA authorized the use of lambda-cyhalothrin on alfalfa/clover/grass mixed stands to control potato leafhopper; June 10, 2005 to August 31, 2005. Contact: (Andrew Ertman)

EPA authorized the use of quinoxyfen on melons, winter squash, gourds, and pumpkin (non-edible cucurbits) to control powdery mildew; June 30, 2005 to September 30, 2005. Contact: (Stacey Groce)

North Carolina

Department of Agriculture

Specific: EPA authorized the use of bifenthrin on sweet potato to control beetle complex; April 1, 2005 to September 30, 2005. Contact: (Libby Pemberton)

EPA authorized the use of halosulfuron-methyl on sweet potatoes to control sedges; June 1, 2005 to August 1, 2005. Contact: (Andrew Ertman)

North Dakota

Department of Agriculture

Specific: EPA authorized the use of fomesafen on dry beans to control various weed pests; April 15, 2005 to August 15, 2005. Contact: (Andrea Conrath)

EPA authorized the use of tebuconazole on barley and wheat to control Fusarium head blight; May 27, 2005 to September 1, 2005. Contact: (Libby Pemberton)

EPA authorized the use of zeta-cypermethrin on flax to control grasshoppers; June 10, 2005 to September 30, 2005. Contact: (Andrew Ertman)

Oklahoma

Department of Agriculture

Specific: EPA authorized the use of fomesafen on snap beans to control various weed pests; April 15, 2005 to September 10, 2005. Contact: (Andrea Conrath)

Oregon

Department of Agriculture

Specific: EPA authorized the use of mesotrione on cranberry to control various weeds; April 18, 2005 to October 31, 2005. Contact: (Libby Pemberton)

EPA authorized the use of mancozeb on ginseng to control alternaria and phytophthora leaf and stem blight; June 6, 2005 to August 10, 2005. Contact: (Stacey Groce)

Pennsylvania

Department of Agriculture

Specific: EPA authorized the use of fomesafen on snap beans to control various weed pests; April 15, 2005 to August 30, 2005. Contact: (Andrea Conrath)

Rhode Island

Department of Environmental Management

Specific: EPA authorized the use of pronamide on cranberries to control dodder; April 1, 2005 to June 15, 2005. Contact: (Andrew Ertman)

South Dakota

Department of Agriculture

Specific: EPA authorized the use of tebuconazole on barley and wheat to control Fusarium head blight; May 10, 2005 to August 31, 2005. Contact: (Libby Pemberton)

Tennessee

Department of Agriculture

Quarantine: EPA authorized the use of trifloxystrobin on soybeans to control soybean rust; April 8, 2005 to November 10, 2007. Contact: (Andrew Ertman)

EPA authorized the use of tetraconazole on soybeans to control soybean rust; April 25, 2005 to November 10, 2007. Contact: (Andrew Ertman)

Texas

Department of Agriculture

Specific: EPA authorized the use of hexythiazox on field corn to control mites; May 18, 2005 to August 31, 2005. Contact: (Andrew Ertman)

EPA authorized the use of diuron on catfish ponds to control blue green algae; June 22, 2005 to November 1, 2005. Contact: (Carmen Rodia)

Utah

Department of Agriculture

Specific: EPA authorized the use of diflubenzuron on alfalfa to control Mormon cricket and grasshopper; June 8, 2005 to October 31, 2005. Contact: (Libby Pemberton)

Vermont

Department of Agriculture

Quarantine: EPA authorized the use of trifloxystrobin on soybeans to control soybean rust; June 23, 2005 to November 10, 2007. Contact: (Andrew Ertman)

EPA authorized the use of propiconazole on soybeans to control soybean rust; June 23, 2005 to November 10, 2007. Contact: (Andrew Ertman)

EPA authorized the use of myclobutanil on soybeans to control soybean rust; June 23, 2005 to November 10, 2007. Contact: (Andrew Ertman)

EPA authorized the use of tetraconazole on soybeans to control soybean rust; June 23, 2005 to November 10, 2007. Contact: (Andrew Ertman)

EPA authorized the use of tebuconazole on soybeans to control soybean rust; June 23, 2005 to November 10, 2007. Contact: (Andrew Ertman)

Virginia

Department of Agriculture and Consumer Services

Specific: EPA authorized the use of thiophanate methyl in tomatoes to control white mold; April 8, 2005 to September 30, 2005. Contact: (Andrea Conrath)

EPA authorized the use of fomesafen on snap beans to control various weed pests; April 15, 2005 to September 30, 2005. Contact: (Andrea Conrath)

EPA authorized the use of azoxystrobin on tobacco to control Frogeye (Cercospora nicotianae) and Target spot (Thanatephorus cucumeris/Rhizoctonia solani); June 24, 2005 to October 15, 2005. Contact: (Libby Pemberton)

Washington

Department of Agriculture

Specific: EPA authorized the use of mesotrione on cranberry to control various weeds; April 18, 2005 to October 31, 2005. Contact: (Libby Pemberton)

EPA authorized the use of fenpropathrin on currants to control the currant cane borer and the stem girdler; May 6, 2005 to September 1, 2005. Contact: (Andrea Conrath)

EPA authorized the use of fenpyroximate on hops to control spider mites; May 26, 2005 to September 15, 2005. Contact: (Andrea Conrath)

EPA authorized the use of mancozeb on ginseng to control alternaria and phytophthora leaf and stem blight; June 6, 2005 to August 10, 2005. Contact: (Stacey Groce)

West Virginia

Department of Agriculture

Quarantine: EPA authorized the use of propiconazole on soybeans to control soybean rust; April 7, 2005 to November 10, 2007. Contact: (Andrew Ertman)

EPA authorized the use of myclobutanil on soybeans to control soybean rust; April 7, 2005 to November 10, 2007. Contact: (Andrew Ertman)

EPA authorized the use of trifloxystrobin on soybeans to control soybean rust; April 8, 2005 to November 10, 2007. Contact: (Andrew Ertman)

Wisconsin

Department of Agriculture, Trade, and Consumer Protection

Quarantine: EPA authorized the use of propiconazole on soybeans to control soybean rust; April 7, 2005 to November 10, 2007. Contact: (Andrew Ertman)

EPA authorized the use of myclobutanil on soybeans to control soybean rust; April 7, 2005 to November 10, 2007. Contact: (Andrew Ertman)

EPA authorized the use of trifloxystrobin on soybeans to control soybean rust; April 8, 2005 to November 10, 2007. Contact: (Andrew Ertman)

Specific: EPA authorized the use of propiconazole on cranberry to control cottonball disease; April 1, 2005 to December 15, 2005. Contact: (Libby Pemberton)

EPA authorized the use of zoxamide on ginseng to control phytophthora blight; May 6, 2005 to October 31, 2005. Contact: (Stacey Groce)

EPA authorized the use of mancozeb on ginseng to control alternaria blight; May 10, 2005 to October 31, 2005. Contact: (Stacey Groce)

EPA authorized the use of chlorothalonil on ginseng to control alternaria blight; May 10, 2005 to October 31, 2005. Contact: (Stacey Groce)

Wyoming

Department of Agriculture

Specific: EPA authorized the use of diflubenzuron on alfalfa to control Mormon cricket and grasshoppers; June 23, 2005 to October 31, 2005. Contact: (Libby Pemberton)

List of Subjects

Environmental protection, Pesticides and pest.

Dated: August 19, 2005.
Lois Rossi,
Director, Registration Division, Office of Pesticide Programs.

[FR Doc. 05-17201 Filed 8-30-05; 8:45 am]

BILLING CODE 6560-50-S